DEPARTMENT OF TRANSPORTATION

Federal Aviation Administration

14 CFR Part 39

[Docket No. FAA-2018-0690; Product Identifier 2018-CE-022-AD]

RIN 2120-AA64

Airworthiness Directives; Gulfstream Aerospace Corporation Airplanes

AGENCY: Federal Aviation Administration (FAA), DOT.

ACTION: Supplemental notice of proposed rulemaking (SNPRM); reopening of comment period.

SUMMARY: We are revising an earlier proposal for certain Gulfstream Aerospace Corporation (Gulfstream) Model G-IV and Model GIV-X airplanes. This action revises the notice of proposed rulemaking (NPRM) by proposing to require a later revision of the service information to update the life limits and inspection requirements in the airworthiness limitations section (ALS) of the aircraft maintenance manual (AMM). We are proposing this airworthiness directive (AD) to address the unsafe condition on these products. Since these actions would impose an additional burden over those in the NPRM, we are reopening the comment period to allow the public the chance to comment on these changes.

DATES: The comment period for the NPRM published in the Federal Register on August 2, 2018 (83 FR 37771), is reopened.

We must receive comments on this SNPRM by May 17, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this SNPRM, contact Gulfstream Aerospace Corporation, Technical Publications Dept., P.O. Box 2206, Savannah, GA 31402-2206; telephone: 800-810-4853; fax: 912-965-3520; email: pubs@gulfstream.com; Internet: http://www.gulfstream.com/product-support/technical-publications. You may view this service information at the FAA, Policy and Innovation Division, 901 Locust, Kansas City, Missouri 64106. For information on the availability of this material at the FAA, call (816) 329-4148.

Examining the AD Docket

You may examine the AD docket on the internet at http://www.regulations.gov by searching for and locating FAA-2018-0690; or in person at Docket Operations between 9 a.m. and 5 p.m., Monday through Friday, except Federal holidays. The AD docket contains this SNPRM, the regulatory evaluation, any comments received, and other information. The street address for Docket Operations (phone: 800-647-5527) is listed above. Comments will be available in the AD docket shortly after receipt.

FOR FURTHER INFORMATION CONTACT: Ronald “Ron” Wissing, Airframe Engineer, Atlanta ACO Branch, FAA, 1701 Columbia Avenue, College Park, Georgia 30337; phone: 404-474-5552; fax: 404-474-5606; email: ronald.wissing@faa.gov.

SUPPLEMENTARY INFORMATION:

Comments Invited

We invite you to send any written relevant data, views, or arguments about this proposal. Send your comments to an address listed under the ADDRESSES section. Include “Docket No. FAA-2018-0690; Product Identifier 2018-CE-022-AD” at the beginning of your comments. We specifically invite comments on the overall regulatory, economic, environmental, and energy aspects of this SNPRM. We will consider all comments received by the closing date and may amend this SNPRM because of those comments.

We will post all comments we receive, without change, to http://www.regulations.gov, including any personal information you provide. We will also post a report summarizing each substantive verbal contact we receive about this SNPRM.

Discussion

We issued an NPRM to amend 14 CFR part 39 by adding an AD that would apply to certain serial-numbered Gulfstream Model G-IV and Model GIV-X airplanes. The NPRM published in the Federal Register on August 2, 2018 (83 FR 37771). The NPRM was prompted by a revision to the ALS of the AMM based on fatigue and damage tolerance (FTD) testing and updated analysis. The NPRM proposed to require revising the ALS in the AMM to incorporate new inspections and life limits contained in Gulfstream Document No. GIV-GER-0008, Summary of Changes to the GIV Series and GIV-X Series Airworthiness Limitations, Revision B, dated March 12, 2018.

Actions Since the NPRM Was Issued

Since we issued the NPRM, Gulfstream updated the life limits in the ALS and issued Gulfstream Document No. GIV-GER-0008, Summary of Changes to the GIV Series and GIV-X Series Airworthiness Limitations, Revision D, dated August 20, 2018. Revision D differs from Revision B in that the part number (P/N) for the rudder for Model GIV airplanes has been corrected to reflect P/N 1159CS30004, and new life limits for fuselage cockpit side post P/N 1159BM50025-5 and P/N 1159BM50025-6 have been added per Revision C. Since incorporating Revision D instead of Revision B would impose an additional burden over those in the NPRM, we are reopening the comment period to allow the public the chance to comment on these changes.

Comments

We gave the public the opportunity to comment on the NPRM. The following presents the comment received on the NPRM and the FAA's response to the comment.

Request To Withdraw the NPRM

An anonymous commenter indicated that the NPRM is unnecessary. The commenter stated the proposed requirements have already been incorporated into the manufacturer's inspection program through a revision to the AMM, Chapter 5. According to the commenter, the original equipment manufacturer (OEM) publishes revisions to the AMM on a CDROM or electronically through the OEM's website; therefore, it would not be possible for the mechanic responsible for signing off on the AD to physically revise Chapter 5 of the AMM as required by the NPRM. The commenter noted the FAA's estimated cost of compliance and stated that the NPRM does not increase safety, but rather it increases paperwork. We infer that the commenter wanted the NPRM withdrawn.

We do not agree. In accordance with 14 CFR 39.5, the FAA issues an AD addressing a product when we find that: (a) An unsafe condition exists in the product; and (b) the condition is likely to exist or develop in other products of the same type design. We will issue an AD if a revision to the AMM ALS addresses an unsafe condition, i.e., more restrictive inspection intervals, altered non-destructive test (NDT) inspection requirements, and reduced life limits.

While Gulfstream operators may incorporate revisions to the AMM into their maintenance program, not all operators are required to do so. In order for the new life limits in Gulfstream Document No. GIV-GER-0008, Summary of Changes to the GIV Series and GIV-X Series Airworthiness Limitations, Revision D, dated August 20, 2018, to become mandatory, and to correct the unsafe condition identified in the NPRM, the FAA must require the changes by AD action.

Related Service Information Under 1 CFR Part 51

We reviewed Gulfstream Document No. GIV-GER-0008, Summary of Changes to the GIV Series and GIV-X Series Airworthiness Limitations, Revision D, dated August 20, 2018. The service information describes more restrictive inspection intervals or altered NDT inspection requirements and updated life limits that address fatigue cracking of the principal structural elements (PSEs). Revision D of this service information differs from previous revisions in that it corrects the P/N for the rudder for Model GIV airplanes to reflect rudder P/N 1159CS30004 and adds new life limits for fuselage cockpit side post P/N 1159BM50025-5 and P/N 1159BM50025-6. This service information is reasonably available because the interested parties have access to it through their normal course of business or by the means identified in the ADDRESSES section.

FAA's Determination

We are proposing this AD because we evaluated all the relevant information and determined the unsafe condition described previously is likely to exist or develop in other products of the same type design. Certain changes described above expand the scope of the NPRM. As a result, we have determined that it is necessary to reopen the comment period to provide additional opportunity for the public to comment on this SNPRM.

Proposed Requirements of This SNPRM

This SNPRM would require revising the ALS of the AMM, Chapter 5 Life Limited Components and Chapter 6 PSE Inspections Intervals, to incorporate new inspections and life limits based on FTD testing and updated analysis.

Costs of Compliance

We estimate that this proposed AD affects 711 airplanes of U.S. registry.

We estimate the following costs to comply with this proposed AD:

Estimated Costs
Action | Labor cost | Parts cost | Cost per product | Cost on U.S. operators
Revise ALS and AMM | 20 work-hour × $85 per hour = $1,700 | Not applicable | $1,700 | $1,208,700

The extent of damage found during the proposed inspection may vary from airplane to airplane. We have no way of determining the number of airplanes that might need repairs or the cost of such repairs for each airplane.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, and associated appliances to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Gulfstream Aerospace Corporation: Docket No. FAA-2018-0690; Product Identifier 2018-CE-022-AD.

(a) Comments Due Date

We must receive comments by May 17, 2019.

(b) Affected ADs

None.

(c) Applicability

This AD applies to Gulfstream Aerospace Corporation Model G-IV airplanes, certificated in any category, serial numbers 1000 through 1535; and Model GIV-X airplanes, certificated in any category, serial numbers 4001 through 4363.

Note 1 to paragraph (c) of this AD: Model G-IV airplanes are also referred to by the marketing designations G300 and G400. Model GIV-X airplanes are also referred to by the marketing designations G350 and G450.

(d) Subject

Joint Aircraft System Component (JASC)/Air Transport Association (ATA) of America Code 27, Flight Controls; 32, Landing Gear; 52, Doors; 53, Fuselage; 55, Stabilizers; 57, Wings; 71, Power Plant-General; and 78, Engine Exhaust.

(e) Unsafe Condition

This AD was prompted by a revision to the airworthiness limitations section (ALS) of the Model G-IV and Model GIV-X aircraft maintenance manuals based on fatigue and damage tolerance testing and updated analysis. We are issuing this AD to detect and correct fatigue cracking of principal structural elements (PSEs). This unsafe condition, if unaddressed, could result in reduced structural integrity of a PSE or critical component and lead to loss of control of the airplane.

(f) Compliance

Comply with this AD within the compliance times specified, unless already done.

(g) Airplane Maintenance Manual Revisions

Within 12 months after the effective date of this AD, revise the ALS of your maintenance or inspection program (e.g., maintenance manual) to incorporate the airworthiness limitations specified in Gulfstream Document No. GIV-GER-0008, Summary of Changes to the GIV Series and GIV-X Series Airworthiness Limitations, Revision D, dated August 20, 2018, as applicable to your model and serial number airplane.

(h) No Alternative Actions or Intervals

After the maintenance or inspection program (e.g., maintenance manual) has been revised as required by paragraph (g) of this AD, no alternative inspections or intervals may be used unless approved as an alternative method of compliance in accordance with the procedures specified in paragraph (i) of this AD.

(i) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD.

(2) Before using any approved AMOC, notify your appropriate principal inspector, or lacking a principal inspector, the manager of the local flight standards district office/certificate holding district office.

(j) Related Information

(1) For more information about this AD, contact Ronald “Ron” Wissing, Airframe Engineer, Atlanta ACO Branch, FAA, 1701 Columbia Avenue, College Park, Georgia 30337; phone: 404-474-5552; fax: 404-474-5606; email: ronald.wissing@faa.gov.

(2) For service information identified in this AD, contact Gulfstream Aerospace Corporation, P.O. Box 2206, Savannah, Georgia 31402-2206; telephone: (800) 810-4853; fax 912-965-3520; email: pubs@gulfstream.com; Internet: http://www.gulfstream.com/product-support/technical-publications. You may view this referenced service information at the FAA, Policy and Innovation Division, 901 Locust, Kansas City, Missouri 64106. For information on the availability of this material at the FAA, call (816) 329-4148.

Issued in Kansas City, Missouri, on March 25, 2019.
Melvin J. Johnson,
Aircraft Certification Service, Deputy Director, Policy and Innovation Division, AIR-601

[FR Doc. 2019-06275 Filed 4-1-19; 8:45 am]

BILLING CODE 4910-13-P